DEPARTMENT OF AGRICULTURE

Grain Inspection, Packers and Stockyards Administration

United States Standards for Beans

AGENCY: Grain Inspection, Packers and Stockyards Administration, USDA.

ACTION: Notice; request for public comment.

SUMMARY: We plan to revise the U.S. standards for Beans to provide applicants for service with an optional grade designation for bean certification; and remove the requirements that the percentage of high moisture and, in the case of Mixed beans, the percentage of each class in the mixture be shown on the grade line.

DATES: We will consider comments that we receive by May 17, 2007.

ADDRESSES: We invite you to submit comments on this notice. You may submit comments by any of the following methods:

• E-mail: Send comments via electronic mail to comments.gipsa@usda.gov.

• Mail: Send hardcopy written comments to Tess Butler, GIPSA, USDA, 1400 Independence Avenue, SW., Room 1647-S, Washington, DC 20250-3604.

• Fax: Send comments by facsimile transmission to: (202) 690-2755.

• Hand Delivery or Courier: Deliver comments to: Tess Butler, GIPSA, USDA, 1400 Independence Avenue, SW., Room 1647-S, Washington, DC 20250-3604.

• Federal eRulemaking Portal: Go to http://www.regulations.gov. Follow the online instructions for submitting comments.

• Instructions: All comments should refer to the date and page number of this issue of the Federal Register.

• Read Comments: All comments will be available for public inspection in the above office during regular business hours (7 CFR 1.27(b)).

FOR FURTHER INFORMATION CONTACT: Beverly A. Whalen at USDA, GIPSA, FGIS, FMD, Suite 180, STOP 1404, 6501 Beacon Drive, Kansas City, Missouri 64133; Telephone (816) 823-4648; Fax Number (816) 823-4644; e-mail Beverly.A.Whalen@usda.gov.

SUPPLEMENTARY INFORMATION:

Background

The Agricultural Marketing Act of 1946, as amended (AMA), directs and authorizes the Secretary of Agriculture to develop and improve standards for agricultural products (7 U.S.C. 1622). These are standards of quality, condition, quantity, grade, and packaging. The intent of such standards is to encourage uniformity and consistency in commercial practices.

We establish and maintain a variety of quality and grade standards for agricultural commodities. These standards serve as the fundamental starting point to define commodity quality in the domestic and global marketplace. We provide official procedures for how inspectors determine the various grading factors in supporting handbooks, such as the Bean Handbook. The AMA standards and supporting procedures are voluntary and widely used in private contracts, government procurement, marketing communication, and, for some commodities, consumer information.

Standards developed under the AMA include rice, whole dry peas, split peas, feed peas, lentils, and beans. The U.S. standards for Whole Dry Peas, Split Peas, Feed Peas, Lentils, and Beans do not appear in the Code of Federal Regulations (although the process by which we develop these standards is specified through the regulations in 7 CFR 868.102, Procedures for establishing and revising grade standards); however, the standards are available on the GIPSA Web site at http://www.gipsa.usda.gov/GIPSA/webapp?area=home&subject=grpi&topic=sq-ous and by contacting the Field Management Division (FMD) at the above address. We provide the official procedures for how inspectors determine the various grading factors in various supporting handbooks, such as the Bean Handbook, which you may view and print from the GIPSA Web site at http://www.gipsa.usda.gov/GIPSA/webapp?area=home&subject=lr&topic=hb-bi.

Optional Grade Designation and Certification Procedures

We work closely with the National Dry Bean Council (NDBC) and others in the bean industry to examine the effectiveness of the U.S. standards for Beans in today's marketing environment. It appears that the current standards continue to meet consumer/processor needs; however, both the rice and grain industries have optional certification procedures. We have determined that these certification procedures could be beneficial to the bean industry, as well.

Currently, inspectors certify beans offered for inspection as a specific quality (U.S. grade) for example, U.S. No. 2 Pinto Beans. Certifying a specific grade is commonly referred to in the rice and grain industries as “Option 1” grade designation. This works well most of the time, however, there are exceptions. At times, sellers find when preparing to load beans for shipment that the supply of a particular grade of bean may be insufficient to meet the quality and quantity requirements specified in the sales contract. When this happens, the seller may find it necessary to ship beans of a better quality. However, current inspection procedures do not allow the flexibility to describe or certify superior quality beans as being of a lower quality. If the lot presented for inspection is not uniform in quality for the declared grade, the inspector certifies each portion separately according to quality. That is, if a consignment consists of both U.S. No. 1 and 2 Pinto beans, current procedure requires that the quantity representing each of the different qualities receive separate certification. Such certification may not meet the terms of sale for the contract.

The U.S. standards for rice and grains offer an alternative approach that is termed “Option 2” grade designation. When a contract specifies an Option 2 grade designation, the applicant may specifically request Option 2 certification. Under Option 2 certification, there is no limitation placed on the amount of better quality grain in the lot. When a lot meets or is of better quality than the declared grade, inspectors include the term “or better” immediately following the numerical or sample grade designation.

We would like to offer the Option 2 grade designation and certification approach for beans. Under such an approach, beans that are a better quality than that specified by the contract would be certified as a specific grade “or better” (for example, U.S. No. 2, or better, Pinto Beans). The applicant for inspection can obtain the optional certification procedure by requesting it on the application for inspection. The applicant would file the request for the optional certification prior to the beginning of inspection so the inspector knows how to certify the lot. We believe that Option 2 grade designation and certification will better align the bean industry with the rice and grain industries, provide sellers with the flexibility to ship beans of better quality, and provide buyers with the desirable option of receiving better quality.

High Moisture and Mixed Beans

We also plan to remove the requirements that the percentage of high moisture and, in the case of Mixed beans, the percentage of each class in the mixture be shown on the grade-line. The special grade designation “High moisture” is applicable to all classes of beans containing over 18.0 percent moisture. While we will continue to show the special grade designation High moisture” on the grade line, we intend to eliminate the requirement that the percentage of moisture be shown on the grade line. Rather, we plan to enter the percentage of moisture, if applicable, in the “Results” section of the certificate. Additionally, for the class of Mixed beans, we currently require inspectors to include the breakdown of the different classes, in order of predominance, on the grade line of the certificate. Instead of showing this information on the grade line, we plan to enter such information in the “Results” section of the certificate. This approach will not change the grade of the product. We intend for these changes to improve the readability of the certificate. The grade line will provide the grade designation, which includes special grade designations, when applicable, and other related information will be provided in the Remarks section of the certificate. Further, this change in the U.S. standards for Beans will better align certification requirements in beans with other graded commodities such as rice.

Comments

We are requesting comments for 30 days. All comments received within the comment period will be made part of the public record we maintain, will be available to the public for review, and will be considered before we take final action.

Authority: 7 U.S.C. 1621-1627.

James E. Link,
Administrator, Grain Inspection, Packers and Stockyards Administration.

[FR Doc. E7-7242 Filed 4-16-07; 8:45 am]

BILLING CODE 3410-KD-P